DEPARTMENT OF AGRICULTURE

Agricultural Research Service

U.S. National Arboretum Notice of Intent To Renew Information Collection

AGENCY: Agricultural Research Service, USDA.

ACTION: Notice and request for comment.

SUMMARY: The U.S Department of Agriculture (USDA) seeks comments on the intent of the U.S. National Arboretum (USNA) to renew an information collection that expires October 31, 2021. The collection is conducted to obtain information about uses of the facilities, grounds, programs, and services, including information pertaining to the collection of fees for educational programs and workshops, use of the grounds and facilities, and commercial photography and cinematography. Fees generated are used to defray USNA expenses or to promote the USNA mission.

DATES: Comments on this notice must be received by June 21, 2021, to be considered. Comments can be sent to the following: Email: richard.olsen@usda.gov, Mail/Hand Delivery/Courier: Director, U.S. National Arboretum, Agricultural Research Service, Northeast Area, 3501 New York Avenue NE, Washington, DC 20002.

SUPPLEMENTARY INFORMATION:

Title: Use of the USNA Grounds and Facilities, Including as well as Commercial Photography and Cinematography.

OMB Number: 0518-0024.

Expiration Date: 3 years from date of approval.

Type of Request: Renewal of approved information collection.

Abstract: The mission of the U.S. National Arboretum (USNA) is to serve the public need for scientific research, education, and gardens that conserve and showcase plants to enhance the environment. USNA is a 446-acre facility that is open to the public for education and passive recreation and is a national center for public education that welcomes visitors in a stimulating and aesthetically pleasing environment. It receives approximately 610,000 visitors each year, and many garden clubs and societies use USNA grounds to showcase their activities. Section 890(b) of the Federal Agriculture Improvement and Reform Act of 1996, Public Law 104-127 (1996 Act), expanded the authorities of the Secretary of Agriculture to charge reasonable fees for the use of USNA facilities and grounds. These authorities include the ability to further the mission of USNA by charging fees for the temporary use of USNA facilities and grounds. Authority was also provided to charge fees for tram tours and for the use of USNA for commercial photography and cinematography. All rules and regulations noted in 7 CFR part 500, subpart 2A, conducted on USNA property will apply to individuals or groups granted approval to use the facilities and grounds. To properly administer the use of USNA facilities, USNA must obtain information from the requestor(s) to determine if the requested use is consistent with the USNA mission. Each request will require the completion of an application and submission of an application fee. The application is simple and requires only information readily available to the requestor(s), including who is requesting to use USNA and how the USNA facilities will be used. Applications are available in hard copy format and in an electronic format on the USNA website www.usna.usda.gov. Completed permit requests can be submitted in person, by facsimile, or electronically.

Paperwork Reduction Act: In accordance with the Office of Management and Budget (OMB) regulations (5 CFR part 1320) implementing the Paperwork Reduction Act of 1995 (44 U.S.C. Chapter 35), the information collection and recordkeeping requirements that will be imposed will be submitted to OMB for approval. These requirements will not become effective prior to OMB approval.

Estimate of Burden: 150 hours.

Estimated Number of Responses: The USNA estimates the annual receipt of 200 requests for the use of facilities, 100 requests for photography and cinematography, and 1,800 requests for educational programs and workshops.

Estimate of Total Annual Burden on Respondents: The total cost for responding is $5,386.50 for 150 hours of time at $35.91 per hour.

Obtaining Permit Requests: In addition to the current process of transmitting permit requests and approvals in person, by mail, and by facsimile, photography and cinematography applications are available on the USNA website and can be completed and submitted electronically: http://www.usna.usda.gov/Information/facilities/photographyapp.pdf.

The PDF fillable application for the use of facilities is available on the website and can be submitted electronically to USNA. Completed hard copies of permit requests can be submitted to: Administrative Office, USDA, ARS, NEA, U.S. National Arboretum, 3501 New York Avenue NE, Washington, DC 20002.

Comments: Comments are invited on the following:

• If the proposed collection is necessary for the proper performance of the functions of the agency, including whether the information will have practical utility.

• The accuracy of the agency's estimate of the burden of the proposed collection of information, including the validity of the methodology and assumptions used.

• Ways to enhance the quality, utility, and clarity of the information to be collected; and ways to minimize the burden of collection on those who are to respond, including the use of appropriate automated, electronic, mechanical, or other technology.

Simon Y. Liu,
Acting Administrator, ARS.

[FR Doc. 2021-08627 Filed 4-23-21; 8:45 am]

BILLING CODE 3410-03-P